DEPARTMENT OF HOMELAND SECURITY

Coast Guard

33 CFR Part 117

[Docket No. USCG-2010-0935]

Drawbridge Operation Regulation; Gulf Intracoastal Waterway, New Orleans Harbor, Inner Harbor Navigation Canal, New Orleans, Orleans Parish, LA

AGENCY: Coast Guard, DHS.

ACTION: Notice of temporary deviation from regulations.

SUMMARY: The Commander, Eighth Coast Guard District, has issued a temporary deviation from the regulation governing the operation of the SR 39 (Judge Seeber/Claiborne Avenue) vertical lift bridge across the Inner Harbor Navigational Canal, mile 0.9, (Gulf Intracoastal Waterway mile 6.7 East of Harvey Lock), at New Orleans, Orleans Parish, Louisiana. This deviation is necessary to adjust the counterweight wire ropes on the bridge. This deviation allows the bridge to remain closed for two (2) 72-hour time periods within a two-week period.

DATES: This deviation is effective from 12:01 a.m. on Friday, January 7, 2011 until 11:59 p.m. on Sunday, January 23, 2011.

ADDRESSES: Documents mentioned in this preamble as being available in the docket are part of docket USCG-2010-0935 and are available online by going to http://www.regulations.gov, inserting USCG-2010-0935 in the “Keyword” box and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mrs. Donna Gagliano, Transportation Assistant, Eighth Coast Guard District Bridge Branch, US Coast Guard; telephone 504-671-2128 or e-mail Donna.Gagliano@uscg.mil. If you have questions on viewing the docket, call Renee V. Wright, Program Manager, Docket Operations, telephone 202-366-9826.

SUPPLEMENTARY INFORMATION: The Louisiana Department of Transportation and Development has requested a temporary deviation in order to perform maintenance from the published regulation for the SR 39 (Judge Seeber/Claiborne Avenue) vertical lift bridge across the Inner Harbor Navigational Canal, mile 0.9, (GIWW mile 6.7 EHL). The bridge provides 40 feet of vertical clearance when closed above mean high water, and 156 feet above MHW in the open-to-navigation position. Currently, according to 33 CFR 117.458(a), the draw of the bridge shall open on signal; except that, from 6:30 a.m. to 8:30 a.m. and 3:30 p.m. to 5:45 p.m. Monday through Friday, the draw need not be open for the passage of vessels. The draw shall open at any time for a vessel in distress.

This deviation allows the bridge to remain closed to navigation/for two (2) 72-hour periods within a two-week time between January 7, 2011 and January 23, 2011. As required by 33 CFR 117.40(a), the exact dates of the closures will be determined at a later date, allowing deep draft vessel movements just before and/or between the closure periods. Exact times and dates for the closures will be published in the Local Notice to Mariners and broadcast via the Coast Guard Broad Notice to Mariners system.

Navigation on the waterway consists mainly of tugs with tows and ships. The Coast Guard has coordinated the closure with waterway users, industry, and other Coast Guard units. These dates and this schedule were chosen to minimize the significant effects on vessel traffic; however, some vessels that can pass under the bridge in the closed-to-navigation position can do so any time. The bridge will not be able to open for emergencies.

In accordance with 33 CFR 117.35, this work will be performed with flexibility in order to return the bridge to normal operations as soon as possible. This deviation from the operating regulations is authorized under 33 CFR 117.35.

Dated: December 2, 2010.
David M. Frank,
Bridge Administrator.

[FR Doc. 2010-31557 Filed 12-15-10; 8:45 am]

BILLING CODE 9110-04-P